DEPARTMENT OF COMMERCE

Foreign-Trade Zones Board

[Docket 12-2008]

Foreign-Trade Zone 265 - Conroe, Texas, Application for Subzone Status, Sondex, L.P. (Oil and Gas Field Services Equipment), Conroe, Texas

An application has been submitted to the Foreign-Trade Zones Board (the Board) by the City of Conroe, Texas, grantee of FTZ 265, requesting special-purpose subzone status for the oil and gas field services equipment facility of Sondex, L.P. (Sondex), located in Conroe, Texas. The application was submitted pursuant to the provisions of the FTZ Act, as amended (19 U.S.C. 81a-81u), and the regulations of the Board (15 CFR Part 400). It was formally filed on February 21, 2008.

The proposed subzone would include Sondex=s warehousing facility (20 employees, 20,000 sq. ft., 10 acres) at a site in Conroe, Texas, located at 2418 North Frazier Street. The facility is used for the warehousing, distribution, testing and repair of foreign-origin and domestic downhole-wireline equipment and measuring-while- drilling equipment and parts (duty rates range from duty-free to 2.5 percent) for the U.S. market and export. FTZ procedures would be utilized to support Sondex=s distribution activity that competes with facilities located abroad.

FTZ procedures would exempt Sondex from Customs duty payments on foreign products that are re-exported. Some twenty percent of the facility's shipments are exported. On domestic sales, the company would be able to defer payments until merchandise is shipped from the facility and entered for U.S. consumption. Sondex also plans to realize logistical benefits through the use of weekly customs entry procedures. The application indicates that all of the above-cited savings from FTZ procedures would help improve the facility's international competitiveness.

In accordance with the Board's regulations, a member of the FTZ Staff has been designated examiner to investigate the application and report to the Board.

Public comment on the application is invited from interested parties. Submissions (original and 3 copies) shall be addressed to the Board's Executive Secretary at the address below. The closing period for their receipt is May 6, 2008. Rebuttal comments in response to material submitted during the foregoing period may be submitted during the subsequent 15-day period to May 21, 2008.

A copy of the application and accompanying exhibits will be available for public inspection at each of the following locations:U.S. Department of Commerce Export Assistance Center, 1919 Smith Street, Suite 1026, Houston, Texas 77002; and the Office of the Executive Secretary, Foreign-Trade Zones Board, U.S. Department of Commerce, Room 2111, 1401 Constitution Avenue, NW, Washington, DC 20230.

For further information, contact Kathleen Boyce at (202) 482-1346 or Kathleen_Boyce@ita.doc.gov.

Dated: February 21, 2008.
Andrew McGilvray,
Executive Secretary.

[FR Doc. E8-4550 Filed 3-6-08; 8:45 am]

BILLING CODE 3510-DS-S